DEPARTMENT OF COMMERCE

Minority Business Development Agency

[Docket No: 150623548-5548-01]

Guidance on MBDA Applications for Federal Funding

AGENCY: Minority Business Development Agency, Department of Commerce

ACTION: Notice of public meeting.

SUMMARY: The Minority Business Development Agency (MBDA) publishes this notice to announce a public meeting to be held during the MBDA National Training Conference on July 23, 2015. The public meeting will provide general information and an overview of the history of MBDA, MBDA's Federal Funding Opportunities, tips on writing grant applications, guidance on preparing budgets and budget justifications, and information regarding audit and compliance rules.

DATES: The public meeting will be held on Thursday, July 23, 2015; 1:00 p.m.-3:30 p.m. EST. The meeting will be available via webinar. Please submit your written questions to Nakita Y. Chambers (See FOR FURTHER INFORMATION CONTACT) no later than July 10, 2015.

ADDRESSES: The public meeting will be held at: The Westin Canal Place, 100 Rue Iberville, New Orleans, Louisiana, 70130. Participants may register for the webinar online at www.mbda.gov.

FOR FURTHER INFORMATION CONTACT: For additional information please contact: Ms. Nakita Y. Chambers, Program Manager, Telephone (202) 482-0065, email nchambers@mbda.gov. Anyone who requires special assistance, such as sign language interpretation or other reasonable accommodations, should contact Nakita Chambers no later than July 17, 2015.

SUPPLEMENTARY INFORMATION: In accordance with Executive Order 11625, the Minority Business Development Agency is authorized provide federal financial assistance to public and private organizations so that they may render technical and business management services to minority business enterprises. MBDA provides federal financial assistance to organizations through grants and cooperative agreements. The purpose of the public meeting is to provide general information to prospective grant applicants interested in MBDA business development grant programs on writing a competitive grant application, preparing budgets and budget justifications, and generally reviewing single audit readiness and compliance regulations.

This meeting is open to the public.

Josephine Arnold,
Chief Counsel.

[FR Doc. 2015-16188 Filed 6-30-15; 8:45 am]

BILLING CODE 3510-21-P